DEPARTMENT OF ENERGY

Federal Energy Regulatory Commission

[Docket Nos. ER03-200-003]

New York Independent System Operator, Inc.; Notice of Filing

June 19, 2003.

Take notice that on June 13, 2003, the New York Independent System Operator, Inc. (NYISO) submitted a compliance filing in connection with the Commission's January 21, 2003, order in Docket No. ER03-200-000.

The NYISO states that it has served a copy of this filing to all parties listed on the official service list. The NYISO also states that it has served a copy of this filing to all parties that have executed Service Agreements under the NYISO's Open-Access Transmission Tariff or Services Tariff, the New York State Public Service Commission and to the electric utility regulatory agencies in New Jersey and Pennsylvania.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: July 7, 2003.

Linda Mitry,
Acting Secretary.

[FR Doc. 03-17149 Filed 7-7-03; 8:45 am]

BILLING CODE 6717-01-P